DEPARTMENT OF LABOR

Office of the Secretary

Submission for OMB Review: Comment Request

September 19, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/E-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Electrical Standards for Construction (29 CFR Part 1926, Subpart K) and General Industry (29 CFR Part 1910, Subpart S).

OMB Control Number: 1218-0130.

Affected Public: Business or other for-profit and Not-for-profit institutions.

Estimated Number of Respondents: 500,000.

Estimated Total Annual Burden Hours: 151,172.

Estimated Total Annual Cost Burden: $7,500.

Description: The information collection requirements specified in the Electrical Standards for Construction and the Electrical Standards for General Industry are necessary for the prevention of inadvertent electrocution of employees. For additional information, see related 60-day preclearance notice published in the Federal Register at 73 FR 39049 on July 8, 2008. PRA documentation prepared in association with the preclearance notice is available on http://www.regulations.gov under docket number OSHA 2008-0017.

Darrin A. King,
Departmental Clearance Officer.

[FR Doc. E8-22628 Filed 9-25-08; 8:45 am]

BILLING CODE 4510-26-P